SMALL BUSINESS ADMINISTRATION

[Declaration of Disaster #3539]

State of New York

As a result of the President's major disaster declaration on August 29, 2003, I find that Allegany, Cattaraugus, Chemung, Columbia, Delaware, Fulton, Greene, Livingston, Montgomery, Ontario, Rensselaer, Schuyler, Steuben, and Yates Counties in the State of New York constitute a disaster area due to damages caused by severe storms, flooding and tornadoes occurring on July 21, 2003 and continuing through August 13, 2003. Applications for loans for physical damage as a result of this disaster may be filed until the close of business on October 28, 2003 and for economic injury until the close of business on May 31, 2004 at the address listed below or other locally announced locations: U.S. Small Business Administration, Disaster Area 1 Office, 360 Rainbow Blvd. South, 3rd Fl., Niagara Falls, NY 14303.

In addition, applications for economic injury loans from small businesses located in the following contiguous counties may be filed until the specified date at the above location: Albany, Broome, Chautauqua, Chenango, Dutchess, Erie, Genesee, Hamilton, Herkimer, Monroe, Otsego, Saratoga, Schenectady, Schoharie, Seneca, Sullivan, Tioga, Tompkins, Ulster, Washington, Wayne, and Wyoming Counties in the State of New York; Bradford, McKean, Potter, Tioga, Warren, and Wayne counties in the State of Pennsylvania; Bennington County in the State of Vermont; Berkshire County in the State of Massachusetts; and Litchfield County in the State of Connecticut.

The interest rates are:

For Physical Damage:

Homeowners With Credit Available Elsewhere: 5.625%.

Homeowners Without Credit Available Elsewhere: 2.812%.

Businesses With Credit Available Elsewhere: 5.906%.

Businesses and Non-Profit Organizations Without Credit Available Elsewhere: 2.953%.

Others (Including Non-Profit Organizations) With Credit Available Elsewhere: 5.500%.

For Economic Injury

Businesses and Small Agricultural Cooperatives Without Credit Available Elsewhere: 2.953%.

The number assigned to this disaster for physical damage is 353911. For economic injury the number is 9W7900 for New York; 9W8000 for Pennsylvania; 9W8100 for Vermont; 9W8200 for Massachusetts; and 9W8300 for Connecticut.

(Catalog of Federal Domestic Assistance Program Nos. 59002 and 59008).
Dated: August 29, 2003.
Cheri L. Cannon,
Acting Associate Administrator for Disaster Assistance.

[FR Doc. 03-23083 Filed 9-9-03; 8:45 am]

BILLING CODE 8025-01-P